DEPARTMENT OF ENERGY

Federal Energy Regulatory Commission

[Project No. 2266-102]

Nevada Irrigation District; Notice of Designation of Certain Commission Personnel as Non-Decisional

Commission staff members Rachael Warden (Office of the General Counsel 202-502-8717; rachael.warden@ferc.gov) and Elizabeth Molloy (Office of the General Counsel; 202-502-8771; elizabeth.molloy@ferc.gov) are assigned to help resolve issues related to the Yuba-Bear Hydroelectric Project No. 2266.

As “non-decisional” staff, Ms. Warden and Ms. Molloy will not participate in an advisory capacity in any matters related to the Yuba-Bear Hydroelectric Project No. 2266.

Dated: October 27, 2020.
Kimberly D. Bose,
Secretary.

[FR Doc. 2020-24272 Filed 11-2-20; 8:45 am]

BILLING CODE 6717-01-P